DEPARTMENT OF ENERGY

Federal Energy Regulatory Commission

[Docket No. PF06-13-000]

Downeast LNG, Inc.; Supplemental Notice of Intent To Prepare an Environmental Impact Statement for the Downeast LNG Project and Request for Comments on Environmental Issues Related to the Potential Expansion of the Maritimes & Northeast Pipeline System

December 1, 2006.

The Federal Energy Regulatory Commission (FERC or Commission) is in the process of evaluating the Downeast Liquefied Natural Gas (LNG) Project planned by Downeast LNG, Inc. (Downeast). The project would consist of an onshore LNG import and storage terminal, located on the south side of Mill Cove in the Town of Robbinston, near the confluence of Passamaquoddy Bay and the St. Croix River, in Washington County, Maine; and an approximately 31-mile-long natural gas sendout pipeline. The Downeast LNG Project would be designed to have a maximum sendout capacity of 625 million cubic feet of natural gas per day.

The proposed sendout pipeline operated by Downeast LNG would transport natural gas from the LNG terminal to an interconnect point with Maritimes & Northeast Pipeline L.L.C.'s (M&NE) existing pipeline system near the town of Baileyville, Maine. The M&NE system currently does not have sufficient capacity to transport the natural gas that would be supplied by the Downeast pipeline. Therefore, if the Downeast LNG Project is authorized and placed into service, M&NE's system would need to be modified or expanded in Maine, New Hampshire, and Massachusetts.

This Supplemental Notice of Intent (NOI) discloses the potential facilities that would likely be required to expand M&NE's system, based on information provided to Downeast by M&NE, and requests comments regarding the possible environmental impact of those facilities. Although M&NE is not proposing to construct these facilities and does not have an application before the FERC, it has been determined that these expanded M&NE facilities are likely a necessary part of the project and that an analysis of the impacts of these facilities will be included in the EIS being prepared for the Downeast LNG facility.

A map depicting the expansion of the M&NE facilities downstream of the interconnection with Downeast is included in Appendix 1. The following facilities have been identified by M&NE as necessary to accommodate the gas volumes to be delivered by Downeast LNG.

Pipeline Looping

Approximately 130.9 miles of 36-inch-diameter pipeline looping would likely be required within or adjacent to the existing M&NE right-of-way or other nearby utility or road rights-of-way, as follows:

• Eliot Loop—approximately 3.4 miles from Newington in Rockingham County, New Hampshire to Eliot in York County, Maine;

• Westbrook Loop—approximately 16.5 miles from Saco in York County, Maine to Westbrook in Cumberland County, Maine;

• Richmond Loop—approximately 27.6 miles from Pownal in Cumberland County, Maine to Richmond in Sagadahoc County, Maine;

• Searsmont Loop—approximately 19.7 miles from Windsor in Kennebec County, Maine and Searsmont in Waldo County, Maine;

• Brewer Loop—approximately 21.9 miles from Monroe in Waldo County, Maine to Brewer in Penobscot County, Maine;

• Woodchopping Ridge Loop—approximately 22.2 miles from Greenfield in Penobscot County, Maine to Township T35 MD in Hancock County, Maine; and

• Baileyville Loop—approximately 19.6 miles from Township T37 MD BPP in Washington County, Maine to the Baileyville Compressor Station in Washington County, Maine.

The potential pipeline loops would generally be adjacent to the existing mainline; however, the exact side that the loop would be located on varies due to numerous crossovers throughout the looping.

Compressor Station Facilities ¹

¹ The Eliot, Westbrook, Searsmont, Brewer, and Woodchopping Compressor Stations are to be constructed as part of the M&NE Phase IV Project that is currently being evaluated by FERC and other cooperating agencies under Docket Number CP06-335-000. This NOI assumes that the facilities in the Phase IV Project are approved and constructed prior to the construction of the M&NE expansion facilities discussed in this NOI.

Compression requirements for the pipeline expansion would likely include adding compression to six existing compressor stations and the construction of one new compressor station as follows:

• Eliot Compressor Station—install a Solar Titan 130 natural gas-driven turbine compressor;

• Westbrook Compressor Station—install a Solar Taurus 70 natural gas-driven turbine compressor;

• Richmond Compressor Station—install a Solar Mars 100 natural gas driven turbine compressor;

• Searsmont Compressor Station—install a Solar Taurus 70 natural gas-driven turbine compressor;

• Brewer Compressor Station—install a Solar Taurus 70 natural gas-driven turbine compressor;

• Woodchopping Ridge Compressor Station—install a Solar Taurus 70 natural gas-driven turbine compressor; and

• A new compressor station located in the City of Methuen, Middlesex County, Massachusetts. This facility would involve the installation of a Solar Taurus 70 natural gas-driven turbine compressor.

By this notice, the Commission specifically requests comments only on these additional M&NE facilities. Your input will help identify the issues that need to be evaluated in the EIS. Comments on the project should be submitted in written form. Further details on how to submit written comments are provided in the Public Participation section below. Please note that comments are due by January 5, 2007.

This NOI is being sent to Federal, State, and local government agencies; elected officials; environmental and public interest groups; Indian tribes; and local libraries and newspapers. We encourage them to comment on their areas of concern.

Public Participation

You can make a difference by providing us with your specific comments or concerns about the M&NE expansion. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Magalie R. Salas, Secretary, Federal Energy Regulatory Commission, 888 First St., NE., Room 1A, Washington, DC 20426.

• Label one copy of your comments for the attention of OEP/DG2E/Gas Branch 3.

• Reference Docket No. PF06-13-000 on the original and both copies.

• Mail your comments so that they will be received in Washington, DC on or before January 5, 2006.

The Commission strongly encourages electronic filing of any comments in response to this NOI. For information on electronically filing comments, please see the instructions on the Commission's Web site at http://www.ferc.gov under the “e-Filing” link and the link to the User's Guide as well as information in 18 CFR 385.2001(a)(1)(iii). Before you can file comments, you will need to create a free account, which can be accomplished online.

Once Downeast formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

If you wish to be added to the Downeast LNG environmental mailing list, please return the attached Mailing List Retention Form (Appendix 2 of this NOI). Also, indicate on the form your preference for receiving a paper version of the EIS in lieu of an electronic version of the EIS on CD-ROM. If you do not return this form, we will not add your name to our mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-13) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rulemakings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Downeast has established an Internet Web site for this project at http://www.downeastlng.com/index.htm. The Web site includes a project overview, status, potential impacts and mitigation, and answers to frequently asked questions. You can also request additional information by calling Downeast directly at 207-214-5926.

Magalie R. Salas,
Secretary.

[FR Doc. E6-20816 Filed 12-7-06; 8:45 am]

BILLING CODE 6717-01-P